DEPARTMENT OF AGRICULTURE

Forest Service

Plumas County Resource Advisory Committee (RAC)

AGENCY: Forest Service, USDA.

ACTION: Notice of Meetings.

SUMMARY: The Plumas County Resource Advisory Committee (RAC) will hold meetings on July 22, 2002, in Greenville, California and another on August 9, 2002, in Quincy, CA. The purpose of both meetings will be to provide for a finalized cycle 2 project funding process and related timeline under the Title 2 provisions of the Secure Rural Schools and Community Self-Determination Act of 2000.

DATES & ADDRESSES: The July 22 meeting will take place from 9-2 p.m., at the Catholic Church Social Hall, 209 Jesse Street, Greenville, California. The August 9 meeting location will be announced at the July 22 meeting.

FOR FURTHER INFORMATION CONTACT: Lee Anne Schramel Taylor, Forest Coordinator, USDA, Plumas National Forest, PO Box 11500/159 Lawrence Street, Quincy, CA, 95971; (530) 283-7850; or by E-Mail eataylor@fs.fed.us. Final agendas are posted one week prior to the meeting on the Internet at: http://www.fs.r5.fs.fed.us/pay2states/plumas. Prior meeting minutes and agendas are available on the same site.

SUPPLEMENTARY INFORMATION: Agenda items for the July 22 meeting include: (1) Review and discuss cycle 1 project implementation efforts to date; (2) Continue review & discussion of cycle 1 process, (3) Continue to refine timeline for cycle 2 process; (4) Review process documents including outreach, concept paper requests and project proposals formats and amend as needed; and, (5) Future meeting schedule/logistics/agenda. Agenda for the August 9 meeting will be determined at the July 22, 2002 meeting. The meeting is open to the public and individuals may address the Committee after being recognized by the Chair.

Dated: July 2, 2002.
Robert G. MacWhorter,
Acting Forest Supervisor.

[FR Doc. 02-17468 Filed 7-10-02; 8:45 am]

BILLING CODE 0511-02-M